OFFICE OF THE UNITED STATES TRADE REPRESENTATIVE

Opportunity To Apply for Membership on the U.S.-Japan Private Sector/Government Commission

AGENCY: Office of the United States Trade Representative (USTR).

ACTION: Notice of membership opportunity.

SUMMARY: The U.S. Government is seeking letters of interest for private sector membership on the U.S. side of the U.S.-Japan Private Sector/Government Commission (Commission) for 2003. President Bush and Japanese Prime Minister Koizumi launched the Commission in June 2001 as part of the U.S.-Japan Economic Partnership for Growth (Partnership). The Commission held its inaugural annual meeting in Japan in May 2002. It is expected that the next meeting will be held in Washington, DC in the spring of 2003 on the topic of “Successfully Meeting Economic Challenges in the 21st Century.”

DATES: In order to receive full consideration, requests must be received by the Government Secretariat no later than February 12, 2003.

ADDRESSES: Please send requests for consideration on company letterhead by facsimile or letter to the Government Secretariat for the U.S.-Japan Private Sector/Government Commission in care of Harrison Cook, Office of Japan, U.S. Department of Commerce, Room 2320, 14th Street and Constitution Avenue, NW., Washington, DC 20230, facsimile (202) 482-0469. Requests sent by e-mail will not be considered. Candidates chosen for membership will be notified in writing.

FOR FURTHER INFORMATION CONTACT: Harrison Cook or Karin Ryerson, Office of Japan, U.S. Department of Commerce, Room 2320, 14th Street and Constitution Avenue, NW., Washington, DC 20230, facsimile (202) 482-0469; or John Neuffer, Office of North Asian Affairs, Office of the United States Trade Representative, 600 17th Street, NW., Washington, DC 20508, facsimile (202) 395-3597.

SUPPLEMENTARY INFORMATION:

Introduction

The U.S. Government seeks letters of interest for private sector membership on the U.S. side of the Commission. President Bush and Japanese Prime Minister Koizumi launched the Commission in June 2001 as part of the Partnership. The Commission is made up of U.S. and Japanese government and private sector representatives. It aims to integrate the U.S. and Japanese private sectors more fully into the economic work of the two governments. The Commission will enable U.S. and Japanese private sector representatives to present input—including expertise, observations, and recommendations—on agenda topics agreed to in advance by the two governments. For a description of the goals and structure of the Commission and the Partnership, see the Annex to the Joint Statement by President Bush and Prime Minister Koizumi on June 30, 2001, on the Department of Commerce Web site at: http://www.mac.doc.gov/japan/source/menu/partnership/partnership2.html.

Topic

The Commission topic is selected annually. The topic in 2003 is “Successfully Meeting Economic Challenges in the 21st Century,” and would include discussions on the aging of our societies, technological advances, new business development, expanding globalization, and the rapid integration of key economies into the regional and global economy. The Commission members will likely wish to focus on policies and measures needed to successfully meet these challenges so that our two nations can grow and prosper, including steps to:

• Increase productivity by facilitating corporate revitalization and optimal allocation of human, capital, and other resources;

• Enhance competitiveness of our respective economies;

• Promote growth and improve standards of living in economies with shifting demographics;

• Identify and implement best practices and principles of corporate governance, based on practical experiences in the two countries; and

• Address the changes in the trade and investment environment in the era of globalization.

Duties and Responsibilities of Private Sector Members

Private sector members will serve at the discretion of USTR. Private sector individuals chosen for the Commission will be expected to be fully involved in all necessary preparatory meetings and attend the Commission's annual 2003 meeting, which, as currently envisioned, will be held in Washington, DC in the spring of 2003 in conjunction with a Subcabinet meeting of U.S. and Japanese government officials at the Deputy/Vice-Ministerial level from key economic agencies and ministries and other agencies and ministries appropriate to the Commission's topic. The number of private sector Commission members will be limited and will be determined in coordination with the Government of Japan. Members of the private sector delegation will serve for one term. Members who wish to serve additional terms must apply under the same rules as other future prospective members.

Private sector members are fully responsible for travel, lodging and personal expenses associated with their participation in the Commission. They will receive no compensation. The private sector members will serve in a representative capacity, presenting the views and interests of the particular business sector in which they operate; private sector members are not special government employees. Candidates will be vetted for pending business before USTR and the Department of Commerce. Members from the private sector will be chosen based on criteria set forth in this Notice.

Candidate Eligibility and Selection Procedures

The process for recruiting and selecting Commission members from the U.S. private sector is based on objective, written criteria developed in accordance with the Annex to the Joint Statement by President Bush and Prime Minister Koizumi. A candidate's partisan political activities (including political contributions) are not relevant to and will not be considered part of the selection process.

To be eligible for consideration, each candidate must be a U.S. citizen and not a registered foreign agent under the Foreign Agents Registration Act of 1938.

All requests for consideration will be reviewed by the Government Secretariat for the Commission, which is composed of officials from USTR and the Department of Commerce. Members of the Government Secretariat will evaluate each submission based on the evaluation criteria and provide a ranking of Excellent, Good, or Poor. Each ranked request for consideration will be sent to the Assistant USTR for North Asian Affairs and the Commerce Department's Assistant Secretary for Market Access and Compliance (Selecting Officials) for final selection. The Selecting Officials will review the rankings and comments of the review team and will determine the candidates who will be selected for the Commission.

Evaluation Criteria

In reviewing prospective members, the Government Secretariat will consider the following evaluation criteria:

• Experience in executive level positions, such as CEO of U.S. companies; ¹

¹ A U.S. company is defined in the Procedures and Rules for Industry Sector Advisory Committees as a firm incorporated in the United States (or an unincorporated U.S. firm with its principal places of business in the United States) that is controlled by U.S. citizens or by another U.S. entity. An entity is not a U.S. company if 50 percent plus one share of its stock (if a corporation, or a similar ownership interest of an unincorporated entity) is controlled, directly or indirectly, by non-U.S. citizens or non-U.S. entities. If the matter is to represent an entity or corporation with 10 percent or greater non-U.S. ownership, the nominee must demonstrate at the time of nomination that this ownership interest does not constitute control and will not adversely affect his or her ability to serve on the Commission.

• Experience doing business with or in Japan;

• Expertise in the topic to be considered by the Commission in 2003;

• Commitment to undertake any necessary preparatory work and to participate in any preparatory meetings and the Commission meeting itself;

• Commitment to assume the costs of travel, lodging and other personal expenses related to Commission participation;

• Contributions to membership diversity based on company size, type, and location; and

• Other considerations relevant to the Commission as described in the Annex to the U.S.-Japan Joint Statement by President Bush and Prime Minister Koizumi.

Submission Procedures and Requirements

To be considered for membership, please provide a personal resume and materials that would identify the following: (1) Name and title of the individual requesting consideration; (2) name and address of the company where the candidate is employed; (3) company's product or service line; (4) company size (market capitalization, annual revenues, number of employees); (5) company's experience in Japan (exports, sales, employees, years in Japan); (6) why candidate wishes to be considered for the Commission; and (7) the particular sector of the business community the candidate would represent. In addition, candidates should specifically address the evaluation criteria as described above.

Third parties, such as trade associations and government officials, may nominate or endorse potential candidates, but candidates must submit their own letters to be considered for Commission membership. Referrals from political organizations and any references to political contributions or other partisan political activities will not be considered in the selection process.

Dated: December 20, 2002.
Wendy S. Cutler,
Assistant United States Trade Representative for North Asian Affairs.

[FR Doc. 02-33004 Filed 12-30-02; 8:45 am]

BILLING CODE 3190-01-P